ENVIRONMENTAL PROTECTION AGENCY

[FRL-6926-4]

Agency Information Collection Activities: Submission for OMB Review; Comment Request Emission Defect Information Reports (DIRs) and Voluntary Emission Recall Reports (VERR) for Manufacturers of On-Highway Heavy-Duty Engines, Non-Road Compression-Ignition (CI) Engines, Non-Roadspark-Ignition (SI) Engines, Marine Engines, and Locomotives

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: Emission Defect Information Reports (DIRs) and Voluntary Emission Recall Reports (VERRs) for manufacturers of on-highway heavy-duty engines, non-road compression-ignition (CI) engines, non-road spark-ignition (SI) engines, marine engines, and locomotives, OMB Control Number: 2060-0048, expiration date December 31, 2000. The ICR describes the nature of the information collection and its expected burden and cost; where appropriate, it includes the actual data collection instrument.

DATES: Comments must be submitted on or before January 29, 2001.

ADDRESSES: Send comments, referencing EPA ICR No. 0282.12, OMB Control Number: 2060-0048, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-mail at Farmer.sandy@epa.gov, or download off the Internet at http://www.epa.gov/icr and refer to EPA ICR No. 0282.12. For technical questions about the ICR contact; Arman Tanman at (202) 564-9326.

SUPPLEMENTARY INFORMATION: Title: Emission Defect Information Reports (DIRs) and Voluntary Emission Recall Reports (VERRs) for Manufacturers of On-highway Heavy-duty Engines, Non-road Compression-ignition (CI) Engines, Non-road Spark-ignition (SI) Engines, Marine Engines, and Locomotives. EPA ICR # 0282.12, OMB Control Number: 2060-0048, expiration date December 31, 2000. This is a request for extension of a currently approved collection.

Abstract: The Clean Air Act and applicable regulations require that new engines must be certified by EPA before they can be sold in the United States. In the certification process, manufacturers must demonstrate that those engines being produced will comply with the applicable emissions standards throughout their useful lives. Regulations implementing reporting requirements have been promulgated in “Emission Defect Reporting Requirements,” for:

Heavy Duty Truck engines 40 CFR part 85, subpart T. 40 CFR 85.1901-85.1909

Non-road CI engines 40 CFR part 89, subpart I, 40 CFR 89.801-89.803

Non-road SI engines 40 CFR part 90, subpart I, 40 CFR 90.801-90.805

Marine engines 40 CFR part 91, subpart J, 40 CFR 91.901-91.905, and Locomotive engines 40 CFR part 92, subpart E, 40 CFR 92.401-92.405

Defect Information Reports (DIRs) by the manufacturers alert EPA's Office of Transportation & Air Quality's (OTAQ) staff to the existence of emission-related defects on certain classes of engines. Such defects may exceed emission standards and ultimately to the need for an emissions recall. OTAQ staff use the DIRs to target potentially non-conforming classes for future testing and to monitor compliance with the Clean Air Act and applicable regulations. DIRs frequently lead to recalls (directly or indirectly) by the manufacturers.

Voluntary Emissions Recall Reports (VERRs) by the manufacturers are used to notify OTAQ staff when a manufacturer initiates a recall campaign. The VERRs and VERR progress update reports are used by OTAQ staff to determine whether a manufacturer is acting in accordance with the Clean Air Act and to examine and monitor the effectiveness of the recall campaign. Review and monitoring of the DIRs and VERRs by OTAQ staff provides a deterrent effect to help ensure compliance by the manufacturers with the Clean Air Act and the applicable regulations.

Any claimed confidential business information that meets the criteria for confidential treatment in EPA's regulations relating to confidential business claims pursuant to 5 U.S.C. 552 and 40 CFR part 2 will be treated as such.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on August 31, 2000 (65 FR 53005) and no comments were received.

Burden Statement: The annual public reporting and record keeping burden for this collection of information is estimated to average 107 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: engine manufacturers.

Estimated Number of Respondents: 15.

Frequency of Response: DR/VERR as needed, VERR quarterly.

Estimated Total Annual Hour Burden: 4,925.

Estimated Total Annualized Capital, O&M Cost Burden: $0.

Send comments on the Agency's need for this information, the accuracy of the provided burden estimates, and any suggested methods for minimizing respondent burden, including through the use of automated collection techniques to the addresses listed above. Please refer to EPA ICR No.0282.12 and OMB Control No. 2060-0048 in any correspondence.

Dated: December 18, 2000.
Oscar Morales,
Director, Collection Strategies Division.

[FR Doc. 00-33355 Filed 12-28-00; 8:45 am]

BILLING CODE 6560-50-P